DEPARTMENT OF THE INTERIOR

Bureau of Indian Affairs

[DR.5B814.IA001213]

Renewal of Agency Information Collection for Application for Job Placement and Training Services

AGENCY: Bureau of Indian Affairs, Interior.

ACTION: Notice of submission to OMB.

SUMMARY: In compliance with the Paperwork Reduction Act of 1995, the Assistant Secretary—Indian Affairs is submitting to the Office of Management and Budget (OMB) a request for renewal of the approval for the collection of information in the Application for Job Placement and Training Services. The information collection is currently authorized by OMB Control Number 1076-0062, which expires June 30, 2014.

DATES: Interested persons are invited to submit comments on or before July 28, 2014.

ADDRESSES: You may submit comments on the information collection to the Desk Officer for the Department of the Interior at the Office of Management and Budget, by facsimile to (202) 395-5806 or by email to: OIRA_Submission@omb.eop.gov. Please send a copy of your comments to Jack Stevens, Division Chief, Office of Indian Energy and Economic Development, Assistant Secretary—Indian Affairs, 1951 Constitution Avenue NW., MS-20 SIB, Washington, DC 20240; facsimile: (202) 208-4564; email: Jack.Stevens@bia.gov.

FOR FURTHER INFORMATION CONTACT: Jack Stevens, telephone: (202) 208-6764. You may review the information collection request online at http://www.reginfo.gov. Follow the instructions to review Department of the Interior information collections under review by OMB.

SUPPLEMENTARY INFORMATION:

I. Abstract

The Office of Indian Energy and Economic Development (IEED) is seeking renewal of the approval for the information collection conducted under 25 CFR part 26 to administer the job placement and training program, which provides vocational/technical training, related counseling, guidance, job placement services, and limited financial assistance to Indian individuals who are not less than 18 years old and who reside within service areas approved by the Bureau of Indian Affairs (BIA). Information is collected through the form, BIA-8205, Application for Job Placement and/or Training Assistance.

II. Request for Comments

The IEED requests your comments on this information collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0062.

Title: Application for Job Placement and Training Services.

Brief Description of Collection: Submission of this information allows IEED to administer the job placement and training program, which provides vocational/technical training, related counseling, guidance, job placement services, and limited financial assistance to Indian individuals who are not less than 18 years old and who reside within service areas approved by the BIA. Information is collected through the form, BIA-8205, Application for Job Placement and/or Training Assistance. Response is required to obtain a benefit.

Type of Review: Extension without change of currently approved collection.

Respondents: Individuals seeking and currently participating, and employers participating, in the IEED job placement and training program.

Number of Respondents: 4,900 per year, on average.

Number of Responses: 7,450 per year, on average.

Frequency of Response: Once annually to apply for services, quarterly to provide progress reports, on occasion to provide information regarding job opportunities.

Estimated Time per Response: 30 minutes.

Estimated Total Annual Hour Burden: 3,726 hours.

Estimated Total Annual Non-Hour Dollar Cost: $0.

Dated: June 20, 2014.
John Ashley,
Acting Assistant Director for Information Resources.

[FR Doc. 2014-14966 Filed 6-25-14; 8:45 am]

BILLING CODE 4310-G1-P